COMMITTEE FOR PURCHASE FROM PEOPLE WHO ARE BLIND OR SEVERELY DISABLED

Procurement List Additions and Deletions

AGENCY: Committee for Purchase From People Who Are Blind or Severely Disabled.

ACTION: Additions to and deletions from the Procurement List.

SUMMARY: This action adds products and a service to the Procurement List that will be furnished by nonprofit agencies employing persons who are blind or have other severe disabilities, and deletes products from the Procurement List previously furnished by such agencies.

DATES: Effective date: June 22, 2015.

ADDRESSES: Committee for Purchase From People Who Are Blind or Severely Disabled, 1401 S. Clark Street, Suite 715, Arlington, Virginia 22202-4149.

FOR FURTHER INFORMATION CONTACT: Barry S. Lineback, Telephone: (703) 603-7740, Fax: (703) 603-0655, or email CMTEFedReg@AbilityOne.gov.

SUPPLEMENTARY INFORMATION:

Additions

On 3/6/2015 (80 FR 12156), 3/20/2015 (80 FR 14973), and 3/27/2015 (80 FR 16363-16364), the Committee for Purchase From People Who Are Blind or Severely Disabled published notices of proposed additions to the Procurement List.

After consideration of the material presented to it concerning capability of qualified nonprofit agencies to provide the products and service and impact of the additions on the current or most recent contractors, the Committee has determined that the products and service listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and service to the Government.

2. The action will result in authorizing small entities to furnish the products and service to the Government.

3. There are no known regulatory alternatives which would accomplish the objectives of the Javits-Wagner-O'Day Act (41 U.S.C. 8501-8506) in connection with the products and service proposed for addition to the Procurement List.

End of Certification

Accordingly, the following products and service are added to the Procurement List:

Products

Product Name/NSN(s): Easy Storage Box, 14 3/4″ x 12″ x 9 1/2″, White 8115-00-NSH-0338

Mandatory Purchase for: Total Government Requirement

Mandatory Source of Supply: ReadyOne Industries, Inc., El Paso, TX

Contracting Activity: General Services Administration

Distribution: A-List

Product Name/NSN(s): Shaker, Salad Dressing/MR 342, Mandoline Slicer, Handheld/MR 338

Mandatory Purchase for: Requirements of military commissaries and exchanges as aggregated by the Defense Commissary Agency

Mandatory Source of Supply: Cincinnati Association for the Blind, Cincinnati, OH

Contracting Activity: Defense Commissary Agency, Fort Lee, VA

Distribution: C-List

Product Name/NSN(s): Neck Lanyard:

8455-00-NIB-0040—Cord Style, J-Hook, Black, 36″ x .25″

8455-00-NIB-0041—Strap Style, J-Hook, Black, 36″ x .75″

8455-00-NIB-0042—Strap Style, J-Hook, Tan, 36″ x .75″

8455-00-NIB-0043—Cord Style, J-Hook, Tan, 36″ x .25″

8455-00-NIB-0046—Clip Adapter Strap, 100 PK

8455-00-NIB-0047—Holder, Identification, Smart Card, RFID Shielded, Opaque, Bulk PK

Mandatory Purchase for: Total Government Requirement

Mandatory Source of Supply: West Texas Lighthouse for the Blind, San Angelo, TX

Contracting Activity: General Services Administration

Distribution: A-List

Service

Service Type: Base Operations and Administrative Service

Mandatory Purchase for: Marine Corps Base Hawaii (MCB), Camp Smith, Halawa, HI and Kaneohe Bay, HI

Mandatory Source of Supply: PRIDE Industries, Roseville, CA

Contracting Activity: Dept of the Navy, HQBN, Marine Corps Base Hawaii, Kaneohe Bay, HI

Deletions

On 4/17/2015 (80 FR 21223), the Committee for Purchase From People Who Are Blind or Severely Disabled published notice of proposed deletions from the Procurement List.

After consideration of the relevant matter presented, the Committee has determined that the products listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 8501-8506) in connection with the products deleted from the Procurement List.

End of Certification

Accordingly, the following products are deleted from the Procurement List:

Products

Product Name/NSN(s): Rain Gauge, 4″/6660-00-920-3722

Mandatory Source of Supply: Productive Alternatives, Inc., Fergus Falls, MN

Contracting Activity: Dept of Comm/Office of the Secretary, Kansas City, MO

Product Name/NSN(s): Brassard, Military Police

8455-00-818-8826

8455-01-236-1174

Mandatory Source of Supply: Unknown

Contracting Activity: Defense Logistics Agency Troop Support, Philadelphia, PA

Product Name/NSN(s): Vest, Load Bearing Equipment

8465-01-440-3690—Rappel Seat, Assembly

PART NO 3505-06-203—strap, Leg

PART NO 3505-06-205—Strap, Waist

8465-01-440-5883—Harness, SPIE, Assembly

Mandatory Source of Supply: Chautauqua County Chapter, NYSARC, Jamestown, NY

Contracting Activity: Dept of the Navy, Commander, Quantico, VA

Barry S. Lineback,
Director, Business Operations.

[FR Doc. 2015-12490 Filed 5-21-15; 8:45 am]

BILLING CODE 6353-01-P